DEPARTMENT OF COMMERCE

National Oceanic and Atmospheric Administration

[RTID 0648-XA424]

Marine Mammals; File No. 23644

AGENCY: National Marine Fisheries Service (NMFS), National Oceanic and Atmospheric Administration (NOAA), Commerce.

ACTION: Notice; receipt of application.

SUMMARY: Notice is hereby given that Iain Kerr, Ocean Alliance, 32 Horton Street, Gloucester, MA 01930, has applied in due form for a permit to conduct research on 22 cetacean species including endangered or threatened blue whales (Balaenoptera musculus), Gulf of Mexico Bryde's whales (B. edeni), fin whales (B. physalus), Hawaii insular false killer whales (Pseudorca crassidens), humpback whales (Megaptera novaeangliae), North Atlantic right whales (Eubalaena glacialis), sei whales (B. borealis), Southern right whales (E. australis), sperm whales (Physeter macrocephalus), and Western North Pacific gray whales (Eschrichtius robustus).

DATES: Written, telefaxed, or email comments must be received on or before September 28, 2020.

ADDRESSES: The application and related documents are available for review by selecting “Records Open for Public Comment” from the “Features” box on the Applications and Permits for Protected Species (APPS) home page, https://apps.nmfs.noaa.gov, and then selecting File No. 23644 from the list of available applications. These documents are also available upon written request via email to NMFS.Pr1Comments@noaa.gov.

Written comments on this application should be submitted via email to NMFS.Pr1Comments@noaa.gov. Please include File No. 23644 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research for five years on 22 cetacean species in U.S. and international waters of the North Atlantic and North Pacific Oceans. Research would be conducted for several cetacean studies including toxicology, microplastics, acoustics, and behavioral ecology. Researchers would conduct vessel and unmanned aircraft system surveys for biological sampling (skin and blubber biopsy, exhaled air, feces, and sloughed skin), counts, passive acoustics, photo-ID, photograph/video, observations, photogrammetry, and thermal imaging. Cetaceans also may be incidentally harassed during surveys when targeting another cetacean species or conspecifics. Samples collected on the high seas or in foreign territorial waters worldwide may be imported for study. Collected tissue samples also may be cultured for cell line development. Please see the application take tables for proposed take numbers by species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 24, 2020.
Julia Marie Harrison,
Chief, Permits and Conservation Division, Office of Protected Resources, National Marine Fisheries Service.

[FR Doc. 2020-18866 Filed 8-26-20; 8:45 am]

BILLING CODE 3510-22-P